DEPARTMENT OF HEALTH AND HUMAN SERVICES

Centers for Disease Control and Prevention

Notice of Establishment

Pursuant to the Federal Advisory Committee Act, as amended (5 U.S.C. Appendix 2), the Secretary, Department of Health and Human Services (HHS), announces the establishment of the Board of Scientific Counselors, National Center for Environmental Health/Agency for Toxic Substances and Disease Registry.

This board is established as a result of a consolidation of the Offices of the Director of the National Center for Environmental Health (NCEH), and the Agency for Toxic Substances and Disease Registry (ATSDR).

The Board of Scientific Counselors, NCEH/ATSDR will advise the Secretary, HHS; the Director, Centers for Disease Control and Prevention; and the Director, NCEH/ATSDR, regarding program goals, objectives, strategies, and priorities in fulfillment of the agencies' mission to protect and promote people's health. The board will provide advice and guidance that will assist NCEH/ATSDR in ensuring scientific quality, timeliness, utility, and dissemination of results. The board will also provide guidance to help NCEH/ATSDR work more efficiently and effectively with its various constituents and to fulfill its mission in protecting America's health.

For information, contact Dr. Tom Sinks, Executive Secretary, Centers for Disease Control and Prevention, of the Department of Health and Human Services, 1600 Clifton Road, NE., Mailstop E28, Atlanta, Georgia 30333, telephone 404/498-0003 or fax 404/498-0059.

The Director, Management Analysis and Services Office, has been delegated the authority to sign Federal Register notices pertaining to announcements of meetings and other committee management activities, for both the Centers for Disease Control and Prevention and the Agency for Toxic Substances and Disease Registry.

Dated: April 30, 2004.
Alvin Hall,
Director, Management Analysis and Services Office, Centers for Disease Control and Prevention.

[FR Doc. 04-10296 Filed 5-5-04; 8:45 am]

BILLING CODE 4163-19-P